DEPARTMENT OF AGRICULTURE

Animal and Plant Health Inspection Service

[Docket No. APHIS-2015-0037]

Double-Crested Cormorant Management Plan To Reduce Predation of Juvenile Salmonids in the Columbia River Estuary Final Environmental Impact Statement; Record of Decision

AGENCY: Animal and Plant Health Inspection Service, USDA.

ACTION: Notice.

SUMMARY: This notice advises the public of the Animal and Plant Health Inspection Service's record of decision for the U.S. Army Corps of Engineers' Double-Crested Cormorant Management Plan Final Environmental Impact Statement.

DATES: Effective May 28, 2015.

ADDRESSES: You may read the final environmental impact statement and the record of decision in our reading room. The reading room is located in Room 1141 of the USDA South Building, 14th Street and Independence Avenue SW., Washington, DC. Normal reading room hours are 8 a.m. to 4:30 p.m., Monday through Friday, except holidays. To be sure someone is there to help you, please call (202) 799-7039 before coming.

The record of decision, final environmental impact statement, and supporting information may also be found by visiting the APHIS Web site at www.aphis.usda.gov/wildlifedamage/nepa. To obtain copies of the documents, contact the person listed under FOR FURTHER INFORMATION CONTACT.

FOR FURTHER INFORMATION CONTACT: Mr. David A. Bergsten, Assistant Chief, Environmental and Risk Analysis Services, PPD, APHIS, 4700 River Road Unit 149, Riverdale, MD 20737-1238; (301) 851-3136.

SUPPLEMENTARY INFORMATION: On February 13, 2015, the U.S. Environmental Protection Agency (EPA) published in the Federal Register (80 FR 8081, Docket No. 2015-03068) a notice of the availability of an environmental impact statement (EIS) by the U.S. Army Corps of Engineers (Corps) for the Double-crested Cormorant Management Plan to Reduce Predation of Juvenile Salmonids in the Columbia River Estuary. That notice was amended on February 20, 2015 (80 FR 9266-9267, Docket No. 2015-03524), to correctly identify the EIS as a final environmental impact statement (FEIS). The U.S. Department of Agriculture's Animal and Plant Health Inspection Service (APHIS), Wildlife Services (USDA-WS) was a cooperating agency in the development of the Corps' FEIS and adopted the FEIS pursuant to the EPA notice published on May 1, 2015 (80 FR 24915, Docket 2015-10218).

Under the National Environmental Policy Act (NEPA) implementing regulations in 40 CFR 1506.10, an Agency must wait a minimum of 30 days between publication of the EPA's notice of an FEIS and an Agency decision on an action covered by the FEIS. Accordingly, this notice advises the public that the waiting period has elapsed, and USDA-WS has issued a record of decision to assist the Corps in the implementation of the preferred alternative of the Corps' FEIS.

USDA-WS' record of decision has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 22nd day of May 2015.
Kevin Shea,
Administrator, Animal and Plant Health Inspection Service.

[FR Doc. 2015-13000 Filed 5-27-15; 8:45 am]

BILLING CODE 3410-34-P